DEPARTMENT OF DEFENSE

GENERAL SERVICES ADMINISTRATION

NATIONAL AERONAUTICS AND SPACE ADMINISTRATION

[OMB Control No. 9000-00XX]

Submission for OMB Review; Information Regarding Responsibility Matters

AGENCY: Department of Defense (DOD), General Services Administration (GSA), and National Aeronautics and Space Administration (NASA).

ACTION: Notice of request for public comments regarding a new OMB information clearance.

SUMMARY: Under the provisions of the Paperwork Reduction Act of 1995 (44 U.S.C. Chapter 35), the Regulatory Secretariat will be submitting to the Office of Management and Budget (OMB) a request to review and approve a new information collection requirement regarding Information Regarding Responsibility Matters.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before March 31, 2010.

ADDRESSES: Submit comments regarding this burden estimate or any other aspect of this collection of information, including suggestions for reducing this burden to GSA Desk Officer, OMB, Room 10236, NEOB, Washington, DC 20503, and a copy to the Regulatory Secretariat (MVCB), General Services Administration, 1800 F Street, NW., Room 4041, Washington, DC 20405. Please cite OMB Control No. 9000-00XX, Information Regarding Responsibility Matters, in all correspondence.

FOR FURTHER INFORMATION CONTACT: Ms. Millisa Gary, Procurement Analyst, Contract Policy Branch, at (202) 501-0699 or millisa.gary@gsa.gov.

SUPPLEMENTARY INFORMATION:

A. Purpose

The collection of new information is in compliance with section 872 of the Duncan Hunter National Defense Authorization Act of 2009 (Pub. L. 110-417), enacted on October 14, 2008. Section 872 of the Act requires the General Services Administration (GSA) to develop and maintain a database containing specific information on the integrity and performance of covered Federal agency contractors and grantees.

Section 872 defines a covered person as any person awarded a Federal agency contract or grant in excess of $500,000 and any person awarded “such other category or categories of Federal agency contract as the FAR may provide * * *” Information to be included in the data system is listed in section 872 and must cover the most recent five-year period for—

i. Each civil or criminal proceeding, or any administrative proceeding in connection with the award or performance of a contract or grant with the Federal government during the period when the proceeding results in one or more of the following:

A. A criminal proceeding resulting in a conviction.

B. A civil proceeding resulting in a finding of fault and liability that results in payment of a monetary amount of $5,000 or more.

C. An administrative proceeding resulting in a finding of fault and liability that results in payment of a monetary fine or penalty of $5,000 or more; or payment of a monetary reimbursement, restitution, or damages in excess of $100,000.

D. A disposition of the matter by consent or compromise with an acknowledgment of fault by the covered person if the proceeding could have led to any of the outcomes specified in subparagraphs A, B, or C above.

ii. Each Federal contract and grant awarded to the person that was terminated due to default.

iii. Each Federal administrative agreement entered into between the person and the Federal Government to resolve a suspension or debarment proceeding.

iv. Each final finding by a Federal official that the person has been determined not to be a responsible source pursuant to subparagraph (C) or (D) of section 4(7) of the OFPP Act (41 U.S.C.403(7)).

v. Such other information as shall be provided for purposes of this section in the FAR.

vi. To the maximum extent practical, information similar to that mentioned in subparagraphs I, ii, and iii, in connection with the award or performance of a contract or grant with a State Government.

A new solicitation provision has been developed for inclusion in solicitations expected to result in a contract of $500,000 or more. A new provision (FAR 52.209-XX, Information Regarding Responsibility Matters) will require each offeror to check a box indicating whether it has, or has not, current Federal Government contracts and grants totaling $10,000,000 or more. If the offeror checks the box indicating that it does not currently have contracts and grants of at least $10,000,000, that is the extent of the information collection. If, however, the offeror checks the box indicating that it does currently have contracts and grants of at least $10,000,000, and the offeror has not updated its Central Contactor Registration (CCR) database in the last six months, then the offeror is obligated to go to the CCR web site and enter the following information:

“52.209-XX (c)

(1) (i) Whether the offeror, and/or any of its principals, has or has not, within the last five years, been involved in a civil or criminal proceeding, or any administrative proceeding, in connection with the award to or performance by the offeror of a Federal or State contract or grant, to the extent that such proceeding resulted in any of the following dispositions:

(A) In a criminal proceeding, a conviction.

(B) In a civil proceeding, a finding of fault and liability that results in the payment of a monetary fine, penalty, reimbursement, restitution, or damages of $5,000 or more.

(C) In an administrative proceeding, a finding of fault and liability that results in—

(1) The payment of a monetary fine or penalty of $5,000 or more; or

(2) The payment of a reimbursement, restitution, or damages in excess of $100,000.

(D) To the maximum extent practicable and consistent with applicable laws and regulations, in a criminal, civil, or administrative proceeding, a disposition of the matter by consent or compromise with an acknowledgment of fault by the Contractor if the proceeding could have led to any of the outcomes specified in subparagraphs (i), (ii), or (iii).

(ii) If the offeror checked “has” to the information request in (b)(1)(i), the offeror shall provide the requested information with regard to each occurrence.”

In addition, the final rule includes a new clause that requires Contractors to semi-annually update of the information in Federal Awardee Performance and Integrity Information Systems (FAPIIS).

The final rule requires for every solicitation of $500,000 or more that the offeror respond whether it has, or has not, current contracts and grants under performance that total at least $10,000,000. Only if the offeror responds affirmatively is there any further information collection requirement. Given that the amount of current Federal contracts and grants is basic knowledge for any firm, the estimated number of hours for this initial response is 0.1 hours. Using data from the Federal Procurement Data System—Next Generation (FPDS-NG), we estimate that there will be approximately 12,000-14,000 contracts over $500,000 each year. Estimating between five and six responses to each solicitation, then believe there will be 80,000 responses annually to the “has/has not” question.

We expect that 5,000 contractors will answer the first question affirmatively and then will have to enter data into the website. We have used a burden estimate of 0.5 hours to enter the company's data into the website. This time estimate does not include the time necessary to maintain the company's information internally. Most large businesses and some small businesses probably have established systems to track compliance. At this time, all or most Government contractors have entered relevant company data in the Central Contractor Registration (CCR) in accordance with another information collection requirement. Therefore, the estimate includes an average of 100 hours per year for recordkeeping for each of the 5,000 respondents to the request for additional information, for a total of 500,000 annual recordkeeping hours.

Annual Reporting Burden

Initial response:

Respondents | 8,000
Responses per respondent | × 10
Total annual responses | 80,000
Total response burden hours | 8,000
Additional response:
Total annual responses | 10,000
Total response burden hours | 5,000
Recordkeeping hours | 500,000
Total burden hours | 505,000

Obtaining Copies of Proposals: Requesters may obtain a copy of the information collection documents from the General Services Administration, Regulatory Secretariat (MVCB), 1800 F Street, NW., Room 4041, Washington, DC 20405, telephone (202) 501-4755. Please cite OMB Control No. 9000-00XX, Information Regarding Responsibility Matters, in all correspondence.

Dated: February 23, 2010.
Al Matera,
Director, Acquisition Policy Division.

[FR Doc. 2010-4057 Filed 2-26-10; 8:45 am]

BILLING CODE 6820-EP-P